NUCLEAR REGULATORY COMMISSION

[Docket Nos. 50-325 and 50-324]

Carolina Power & Light Company, Brunswick Steam Electric Plant, Units 1 and 2; Notice of Availability of the Final Supplement 25 to the Generic Environmental Impact Statement Regarding License Renewal for Brunswick Steam Electric Plant, Units 1 and 2

Notice is hereby given that the U.S. Nuclear Regulatory Commission (Commission) has published a final plant-specific supplement to the “Generic Environmental Impact Statement (GEIS), NUREG-1437 for License Renewal of Nuclear Plants”, regarding the renewal of operating licenses DPR-71 and DPR-62 for an additional 20 years of operation at Brunswick Steam Electric Plant, Units 1 and 2 (BSEP). BSEP is operated by Carolina Power & Light Company (CP&L), now doing business as Progress Energy Carolinas, Inc. (PEC). BSEP is located in Brunswick County in southeastern North Carolina, near the mouth of the Cape Fear River. Possible alternatives to the proposed action (license renewal) include no action and reasonable alternative energy sources. As discussed in Section 9.3 of the final Supplement 25, based on (1) The analysis and findings in the GEIS, (2) the CP&L Environmental Report; (3) consultation with Federal, State, and local agencies; (4) the staff's own independent review; and (5) the staff's consideration of public comments, the recommendation of the staff is that the Commission determine that the adverse environmental impacts of license renewal for BSEP are not so great that preserving the option of license renewal for energy-planning decision makers would be unreasonable. The final Supplement 25 to the GEIS is publicly available at the NRC's Agencywide Documents Access and Management System (ADAMS). ADAMS is accessible at http://www.nrc.gov/reading-rm/adams.html; a link is provided to access documents through the Internet-Based component of ADAMS. The accession number for the final Supplement 25 to the GEIS is ML060900480. Persons who do not have access to ADAMS, or who encounter problems in accessing the documents located in ADAMS, should contact the NRC's PDR Reference staff at 1-800-397-4209, or 301-415-4737, or by e-mail at pdr@nrc.gov. In addition, the William Madison Randall Library, located at 601 S. College Rd., Wilmington, NC 28403, has agreed to make the final Supplement 25 to the GEIS available for public inspection.

FOR FURTHER INFORMATION CONTACT: Ms. Alicia R. Williamson, Environmental Branch B, Division of License Renewal, U.S. Nuclear Regulatory Commission, Washington, DC 20555. Ms. Williamson may be contacted at 1-800-368-5642, extension 1878 or via e-mail at ARW1@nrc.gov.

Dated at Rockville, Maryland, this 13th day of April, 2006.
For The Nuclear Regulatory Commission.
Frank P. Gillespie,
Division Director, Division of License Renewal, Office of Nuclear Reactor Regulation.

[FR Doc. E6-5891 Filed 4-18-06; 8:45 am]

BILLING CODE 7590-01-P